DEPARTMENT OF HEALTH AND HUMAN SERVICES

Substance Abuse and Mental Health Services Administration

Correction to a Fiscal Year (FY 2001) Funding Opportunities Notice

AGENCY: Substance Abuse and Mental Health Services Administration, HHS.

ACTION: Correction to a Notice of Funding Availability regarding the Substance Abuse and Mental Health Services Administration (SAMHSA), Center for Mental Health Services, Grants for Statewide Family Networks.

SUMMARY: This notice is to inform the public that there is a correction to the SAMHSA/CMHS Guidance for Applicants announcement No. SM01-004 entitled Grants for Statewide Family Networks, published in the Federal Register on March 12, 2001 (Volume 66, Number 48, pages 14407-14409). Under the eligibility section, number 2, the word “solely” is being deleted from the original paragraph. The paragraph should now read:

The entities' organizational mission and scope of work must have a statewide scope and focus on families who have children, youth and adolescents age 18 and under or 21 and under if served by an Individual Education Plan; with serious emotional, behavioral, or mental disorder.

Dated: March 13, 2001.
Richard Kopanda,
Executive Officer, SAMHSA.

[FR Doc. 01-6691 Filed 3-16-01; 8:45 am]

BILLING CODE 4162-20-P